FEDERAL EMERGENCY MANAGEMENT AGENCY

44 CFR Parts 59 and 64

RIN 3067-AD18

Changes to General Provisions and Communities Eligible for the Sale of Insurance Required To Include Future-Conditions Flood Hazard Information on Flood Maps

AGENCY: Federal Emergency Management Agency (FEMA).

ACTION: Final rule.

SUMMARY: This Final Rule revises the National Flood Insurance Program (NFIP) regulations to include definitions for future-conditions hydrology and for the floodplains that may be shown on Flood Insurance Rate Maps (FIRMs), for informational purposes at the request of the community, to reflect future-conditions hydrology; and establish the zone symbol to be used to identify future-conditions flood hazard areas on FIRMs.

DATES: This Final Rule is effective December 27, 2001.

FOR FURTHER INFORMATION CONTACT: Matthew B. Miller, P.E., Chief, Hazards Study Branch, Hazard Mapping Division, Federal Insurance and Mitigation Administration, FEMA, Washington, DC 20472, (202) 646-3461.

SUPPLEMENTARY INFORMATION:

Background

It was the expressed intent of the U.S. Congress, in enacting the Housing and Urban Development Act of 1968 (commonly referred to as the National Flood Insurance Act of 1968), to “encourage State and local governments to make appropriate land use adjustments to constrict the development of land which is exposed to flood damage and minimize damage caused by flood losses, and guide the development of proposed future construction, where practicable, away from locations which are threatened by flood hazards * * * ” 42 U.S.C. 4001(e). The revisions to the NFIP regulations documented in this Final Rule are a result of the continuing reappraisal of the NFIP for the purpose of encouraging sound floodplain management to reflect that intent.

Historically, flood hazard information presented on NFIP flood maps has been based on the existing conditions of the floodplain and watershed. When the mapping of flood hazards was initiated under the NFIP, the intent was to reassess each community's flood hazards periodically and, if needed, revise the flood map for that community. Flood hazards may change significantly in areas experiencing urban growth. The FEMA document entitled Flood Insurance Study Guidelines and Specifications for Study Contractors (FEMA 37, January 1995) specifies that flood hazard determinations should be based on conditions that are planned to exist in the community within 12 months following completion of the draft Flood Insurance Study (FIS). Examples of future conditions to be considered in the context of FEMA 37 are public works projects in progress, including channel modifications, hydraulic control structures, storm-drainage systems, and various other flood protection projects. These are projects that will be completed in the near future for which completion can be predicted with a reasonable degree of certainty and their completion can be confirmed prior to the new or revised flood map becoming effective. By contrast, future land-use development, such as urban growth, is uncertain and difficult to predict, and has not been considered in the context of the FEMA guidelines.

Communities experiencing urban growth and other changes have expressed a desire to use future-conditions hydrology in regulating watershed development. While some communities do regulate based on future development, others are hesitant to enforce more restrictive standards without Federal support.

From a floodplain management standpoint, future-conditions floodplains can be used, and are being used, by communities to enforce more stringent floodplain management policies than those required by FEMA. By displaying future-conditions floodplains on the FIRM, the community and FEMA are alerting the public that flood hazards may increase in the future due to urban development. Many progressive communities throughout the United States develop future-conditions hydrology and create their own maps to regulate floodplain development. This has resulted in two sets of maps being produced for a community: future-conditions maps for local floodplain management and existing-conditions FIRMs for flood insurance determinations. As a result, these progressive communities have not had a sense of ownership for the FIRMs, and their resources have been directed toward maintaining their own future-conditions maps.

Recent Evaluation and Conclusions

To assist officials in such progressive communities, FEMA undertook an evaluation to determine whether future-conditions flood hazard information could and should be placed on FIRMs and in the accompanying FIS reports. The results of that extensive evaluation are documented in a FEMA report entitled “Modernizing FEMA's Flood Hazard Mapping Program: Recommendations for Using Future Conditions Hydrology for the National Flood Insurance Program” (see www.fema.gov/mit/tsd/FT_hydro.htm). The specific conclusions reached in the report are as follows:

• The local community should determine the future-conditions land-use and hydrology.

• If the community chooses to adopt a regulatory floodway based on future-conditions hydrology, the use of this floodway should be supported by local ordinances.

• If the community requests that FEMA do so, the future-conditions 1-percent-annual-chance (100-year) floodplain should be shown on the printed FIRM and be designated as Zone X with no base (1-percent-annual-chance) flood elevations (BFEs) shown.

• When possible, three floodplains should be shown on the FIRM: existing-conditions 1-percent-annual-chance (100-year) floodplain, existing-conditions 0.2-percent-annual-chance (500-year) floodplain, and future-conditions 1-percent-annual-chance (100-year) floodplain. However, when the future-conditions 1-percent-annual-chance (100-year) floodplain and the existing-conditions

• 0.2-percent-annual-chance (500-year) floodplain are so close together as to be confusing if both are shown on the printed FIRM, the future-conditions 1-percent-annual-chance (100-year) floodplain should be shown in lieu of the existing-conditions 0.2-percent-annual-chance (500-year) floodplain. When this occurs, appropriate reference should be made to the existing-conditions 0.2-percent-annual-chance (500-year) floodplain information being shown in the FIS report. For a Digital Flood Insurance Rate Map (DFIRM), appropriate reference also should be made to the existing-conditions 0.2-percent-annual-chance (500-year) floodplain information being included in an associated database.

• BFEs should be shown on the FIRM only for the existing-conditions 1-percent-annual-chance (100-year) floodplain. The future-conditions BFEs should be included in the FIS report (on the Flood Profiles and in the Floodway Data Table), thus providing necessary information to the community to meet their local floodplain management needs. The existing-conditions 0.2-percent-annual-chance (500-year) flood elevations also should be shown on the Flood Profiles in the FIS report to meet the requirements of Executive Order No. 11988 and to provide Federal agencies with information to evaluate the potential effects of any actions they may take in a floodplain.

• The community may choose to show the existing-conditions 0.2-percent-annual-chance (500-year) floodplain on the FIRM and to include the future-conditions.

• 1-percent-annual-chance (100-year) flood elevations only on the Flood Profiles in the FIS report. Various other combinations to display the flood hazard data also are possible. FEMA and the community should work together to produce the most useful FIRM and FIS report for the community.

• From a floodplain management standpoint, FEMA should continue to require regulation of floodplain development based on the existing-conditions data, while local floodplain managers can regulate development based on the future-conditions data.

• From a flood insurance standpoint, FEMA must continue to require flood insurance for structures shown in the existing-conditions 1-percent-annual-chance (100-year) floodplain, or Special Flood Hazard Area (SFHA). Showing the future-conditions floodplain as Zone X should avoid any confusion regarding the mandatory flood insurance requirement. It also will allow insurance policies to be purchased at a reduced rate, as insurance is currently available for structures in the existing-conditions 0.2-percent-annual-chance (500-year) floodplain.

As recommended in the previously referenced FEMA report, FEMA intends to show future-conditions flood hazard information on FIRMs and in collateral FIS reports. This information will be for informational purposes only. No change will be made in the use of existing-conditions data for establishing risk premium rates. Through community participation in the Community Rating System, however, reduced risk premium rates will be available as they are for those communities that enforce more stringent regulatory standards than required by the NFIP.

Synergy With Other FEMA Programs

The inclusion of future-conditions data on FIRMs and related products for communities that request that such data be included is part of a larger FEMA plan to modernize the Flood Hazard Mapping Program and thereby reduce the burden on taxpayers for disaster relief and improve flood hazard mitigation. FEMA plans to facilitate ownership of the flood maps by State and local entities through greatly increased involvement in the flood mapping process through cooperative agreements. FEMA will provide flood mapping funds, technical assistance, and mentoring to partners—termed “Cooperating Technical Partners”—and those partners will then develop and maintain the flood maps or components thereof. The proposed cooperative agreements recognize that hazard identification and mapping must go hand-in-hand with the responsibility of managing floodplains locally. By creating a strong local program that maintains the connection between mapping and managing flood hazard areas, the NFIP also is strengthened in its ability to reduce the loss of property and life.

FEMA recognition of future-conditions data will be a key factor in the State and local communities assuming increased ownership in the process. By mapping locally pertinent information, local ownership of the flood maps will increase. Because flood conditions and hazards vary locally and regionally, inclusion of those unique local conditions on the flood maps may be warranted. For example, a community may find it useful to identify areas on the FIRM with floodplains based on developed/future hydrologic conditions in addition to the standard features already depicted. In effect, FEMA will maintain national standards while at the same time providing a useful tool to the community. Because the public and the development community will be more aware of future flood hazard conditions, communities will now be more able to implement proactive mitigation measures to address these potential hazards.

In sum, the use of future-conditions hydrology is consistent with modernizing the FEMA Flood Hazard Mapping Program; with promoting better proactive mitigation measures; and with FEMA's desire to be flexible with, and supportive of, those progressive communities that would like to implement stricter land-use regulations.

Planned Implementation

The FEMA plans for implementing the presentation of future-conditions flood hazard information on NFIP flood maps are summarized below.

Map Specifications. The new DFIRM product specifications that are being developed by FEMA will include options that can be invoked depending on the available flood hazard data. This new DFIRM product will include certain basic features and meet certain minimum mapping requirements. Additional options will be included to meet community needs, provided that sufficient funding is available. A review of needs and available data will lead to an estimate of the time and costs and a recommendation on which options to exercise for the final DFIRM product. Procedures for displaying future-conditions floodplains on the new DFIRM will be included in the new FEMA mapping specifications.

Cooperating Technical Partners Activities. As a part of the mapping activities undertaken by communities participating in the Cooperating Technical Partners initiative, an option could be for communities to show the future-conditions 1-percent-annual-chance (100-year) floodplain on the FIRM in addition to the existing-conditions 1-percent-annual-chance (100-year) floodplain. The communities would develop and map existing and future conditions and provide the new floodplain mapping and supporting data to FEMA; in turn, the communities would receive a FIRM that shows both floodplain and is thus a more useful tool for risk assessment and flood hazard mitigation.

Revisions. Because mapping of the future-conditions 1-percent-annual-chance (100-year) floodplains would be implemented on a community level, the flood maps will maintain consistency within community boundaries, regardless of how many map panels the community encompasses. When FEMA receives future-conditions data from communities, FEMA could incorporate the data easily at the time of the conversion to the DFIRM product. Alternatively, communities that require flood hazard updates can submit future-conditions data to be incorporated with the existing-conditions data updates for the DFIRM conversion. Displaying future-conditions data will increase community involvement in the NFIP and help FEMA build stronger partnerships with communities. If these communities are involved at the beginning of the digital conversion process, they will have a stronger sense of ownership of the DFIRMs, because they will have input on the kind of flood hazard information shown on the maps.

Once FEMA has included future-conditions 1-percent-annual-chance (100-year) floodplains on a flood map, all FEMA- or community-initiated studies, restudies, and revisions will incorporate the future-conditions hydrology that the community has determined. FEMA will perform a technical review of the locally developed data and will include the data in all map updates. Additionally, FEMA will continue to make determinations on whether structures and parcels of land are in or out of the existing-conditions 1-percent-annual-chance (100-year) floodplains shown on the FIRM or DFIRM, and will issue Letters of Map Amendment and Letters of Map Revisions Based on Fill based on these determinations.

Scope of Public Participation

On June 14, 2001, FEMA published a Proposed Rule in the Federal Register, at 66 FR 32293. On that date, FEMA invited interested parties to submit written comments to the Rules Docket Clerk, Office of General Counsel, on or before August 13, 2001.

During the comment period provided for in the Proposed Rule, FEMA received letters or e-mail messages from 20 respondents. All of the respondents supported the FEMA decision to include the future-conditions 1-percent-annual-chance (100-year) floodplains on the FIRM. In fact, 30 percent of the respondents recommended that FEMA proceed with finalizing the Proposed Rule without any changes. Other respondents provided multiple recommendations for how FEMA could change and improve the Proposed Rule before finalizing it. Those submitting formal comments on the Proposed Rule included one U.S. Senator; one member of the U.S. House of Representatives; community officials and representatives of local and regional government agencies; representatives of the business community; and representatives of professional environmental and floodplain management associations.

Summary of Comments and FEMA Responses

The comments and recommendations submitted by the respondents to the Proposed Rule may be separated into eight categories. Summaries of each category of comments and FEMA's responses to those comments are summarized below.

Insurance Applications. Several respondents recommended that FEMA establish risk premium rates and mandatory flood insurance purchase requirements for buildings located in the future-conditions floodplains that will be shown on a FIRM or DFIRM when requested by a community.

Risk premium rates are based on accepted actuarial principles. Several factors are considered in establishing risk premium rates, including amount of coverage purchased; location, age, occupancy, and design of the building to be insured; and, for buildings in the SFHA, elevation of the building in relation to the existing-conditions 1-percent-annual-chance (100-year) flood elevation. The current procedure for risk premium rating is consistent with the statutes governing the NFIP. Under the current procedure, structures shown within the SFHA, the area that would be inundated by the 1-percent-annual-chance (100-year) flood based on existing conditions hydrology, are subject to a mandatory flood insurance purchase requirement. FEMA decided to show future-conditions 1-percent-annual-chance (100-year) floodplains on Flood Insurance Rate Maps to support the floodplain management practices of those progressive communities that choose, voluntarily, to implement more restrictive requirements than those required for participation in the NFIP. Because of the uncertain nature of the future-conditions data and the relatively limited number of participating communities that have opted to implement these more restrictive development requirements, it is not practicable to establish risk premium rates and mandatory flood insurance purchase requirements for buildings located in the future-conditions floodplains. Further, we do not plan to require that all communities use future-conditions data to regulate development as a condition of participating in the NFIP.While the Federal mandatory flood insurance purchase requirement will continue to apply only to buildings in SFHAs based on existing-conditions hydrology in participating communities, flood insurance is available in all areas of a participating community, including the area that will be shown as within the future-conditions 1-percent-annual-chance (100-year) floodplain. This is important because approximately 25 percent of the flood insurance claims paid by the NFIP have been for buildings outside the existing-conditions 1-percent-annual-chance (100-year) floodplain, or SFHA. It also is important to note that a lender may determine, on its own as a business decision, that it wishes to require flood insurance for buildings located outside the SFHA to protect its financial risk on the loan.

Expanded Floodplain Management Requirements. Several respondents recommended that FEMA require regulation of development within the future-conditions 1-percent-annual-chance (100-year) floodplain, primarily to support local floodplain administrators in their efforts to discourage unwise floodplain development.

The FEMA decision to show the future-conditions 1-percent-annual-chance (100-year) floodplain was made precisely to support the floodplain management practices of those progressive communities that choose, voluntarily, to implement more restrictive requirements than those required for participation in the NFIP. Through this change and other recent initiatives, FEMA is emphasizing the need for decision-making authority to be at the local level. However, because of the uncertain nature of the future-conditions data and the relatively limited number of participating communities that have opted to implement these more restrictive development requirements, FEMA does not plan to require that communities use future-conditions data to regulate development.

Expanded Definition of “Future-Conditions Hydrology.” Some respondents recommended that FEMA expand and clarify the definition of future-conditions hydrology. Specifically, these respondents recommended the following: (1) add clarification that planned structural modifications that would reduce peak flood discharges are not to be included in the community's determination of future conditions; (2) include “approved development” as an example of future conditions; (3) include number of units, unit density, and square footage of impervious surface in the definition; and (4) include expected changes in frequency and severity of precipitation events in the definition.

FEMA is implementing the presentation of future-conditions 1-percent-annual-chance (100-year) floodplains on FIRMs to support floodplain management decisions made locally to address land-use changes that will affect hydrology. To ensure maximum flexibility for local community officials, FEMA does not want to be too restrictive in defining future-conditions hydrology. However, as indicated in the previously referenced FEMA report entitled “Modernizing FEMA's Flood Hazard Mapping Program: Recommendations for Using Future Conditions Hydrology for the National Flood Insurance Program,” the future hydrology conditions defined in this Final Rule do not include future construction of flood detention structures or hydraulic structures for the reasons cited below.

The construction of flood detention structures can significantly affect the flood frequency characteristics of a watershed, and the hydrologic effects of flood detention structures are very site specific and difficult to evaluate. Likewise, the effects of projected future hydraulic modifications—changes within a stream or other waterway, such as bridge and culvert construction, fill, and excavation—on flood frequency are site specific and difficult to predict and are considered beyond the scope of this discussion.

Therefore, FEMA revised the definition of future-conditions hydrology presented in Section 59.1 of the NFIP regulations to clarify that the effects of future construction of flood detention structures or hydraulic structures are not to be considered by a community in establishing future-conditions hydrology.

Expanded Depiction of Future-Conditions Floodplains. One respondent recommended that FEMA include the area that would be affected by projected sea level rise in the depiction of the future-conditions 1-percent-annual-chance (100-year) floodplain on the FIRM. As justification, this respondent cited the requirement in the Coastal Zone Management Act of 1972, as amended (16 U.S.C. 1451 et. seq.), that “* * * coastal states must anticipate and plan for such an occurrence.”

As cited above, FEMA is implementing the presentation of future-conditions 1-percent-annual-chance (100-year) floodplains on FIRMs to support local floodplain management decisions to address land-use changes that will affect hydrology. As FEMA and its community and State partners together move forward with the digital conversion of flood hazard data and production of DFIRMs, greater consideration will be given to including advisory information, such as the project sea level rise. However, inclusion of project sea level rise is outside the scope and intent of this rule change.

Use of Distinctive Screen and Zone Designation for Portraying Future-conditions Floodplain on Maps. Several respondents suggested that FEMA establish a new premium rate zone designation for the future-conditions 1-percent-annual-chance (100-year) floodplain, with a distinctive screen, to differentiate this hazard area from the existing-conditions 0.2-percent-annual-chance (500-year) floodplain. The zone designations that were recommended were Zone F-X, Zone F, Zone AF, Zone U, and Zone D.

FEMA opted to use the Zone X (shaded) screen to depict the future-conditions 1-percent-annual-chance (100-year) floodplain to minimize confusion by users in the lending and insurance industries that use the map to make determinations regarding whether the Federal mandatory flood insurance purchase requirements apply to a particular building. Those users now recognize that areas designated as Zone X (shaded) are subject to some flood hazard, but that the mandatory flood insurance purchase requirement does not apply. Because the risk premium rates for buildings located in the future-conditions 1-percent-annual-chance (100-year) floodplain will be the rate comparable to other areas outside the SFHA, FEMA believes designating these areas as “Zone X (Future Base Flood)” will be sufficient distinction.

This presentation decision notwithstanding, two of the recommended zone designations—Zone AF and Zone D—could not be used on the map anyway. The former is likely to be confused with the zone designation used for SFHAs, in which the mandatory flood insurance purchase requirement does apply, and the latter is already used to designate areas of possible, but undetermined flood hazards.

Presentation of Existing- and Future-Conditions Floodplains on Maps. Some respondents suggested that FEMA show the future-conditions 1-percent-annual-chance (100-year) floodplain on the FIRM at all times, even when the boundaries of the future-conditions 1-percent-annual-chance (100-year) floodplain and the existing-conditions 0.2-percent-annual-chance (500-year) floodplain are too close together to be distinguished.

FEMA plans to take a much more flexible approach to the presentation of the existing- and future-conditions floodplains on the FIRM. Because inclusion of this information on the FIRM is voluntary, the community will have the decision-making authority for determining whether to show the future-conditions 1-percent-annual-chance (100-year) floodplain, the existing-conditions 0.2-percent-annual-chance (500-year) floodplain, or both on the FIRM.

Inclusion of Future-Conditions Flood Elevations on Maps. One respondent recommended that FEMA include future-conditions 1-percent-annual-chance (100-year) flood elevations, rounded to the nearest tenth of a foot, adjacent to the BFEs shown in the existing-conditions future-conditions 1-percent-annual-chance (100-year) floodplain on the FIRM.

To minimize confusion and enhance the usability of the FIRM, FEMA plans to include the future-conditions 1-percent-annual-chance (100-year) flood elevations only in the FIS report that will accompany the FIRM. As with the existing-conditions 1-percent-annual-chance (100-year) flood elevations (i.e., BFEs), local floodplain management officials should consult the Flood Profiles included in the FIS report and other available technical support data for more complete elevation data.

Presentation of Future-Conditions Floodplains for Flooding Sources Studied by Approximate Methods. One respondent recommended that FEMA clarify whether the future-conditions 1-percent-annual-chance (100-year) floodplain could be shown on the FIRM for flooding sources that FEMA analyzed using approximate-study methods. The existing-conditions 1-percent-annual-chance (100-year) floodplains for flooding sources studied by approximate methods are designated as Zone A on the FIRM.

The community may establish a future-conditions 1-percent-annual-chance (100-year) floodplain for any flooding source in the community, regardless of the type of study performed by FEMA. If the community performed a detailed study to establish the future-conditions 1-percent-annual-chance (100-year) floodplain, FEMA may request the supporting data for the detailed study and revise and, based on available funding, redesignate the existing-conditions 1-percent-annual-chance (100-year) floodplain as Zone AE. If the community performed an approximate study, FEMA would show the future-conditions 1-percent-annual-chance (100-year) floodplain, designated as Zone X (Future), adjacent to the existing-conditions 1-percent-annual-chance (100-year) floodplain. The designation for the existing-conditions 1-percent-annual-chance (100-year) floodplain would continue to be Zone A.

Timing of Revisions to Mapping and Implementation of Local Regulations. One respondent requested that FEMA clarify when and if local floodplain management regulations must be implemented when FIRM is revised to show the future-conditions 1-percent-annual-chance (100-year) floodplain.

FEMA will revise the FIRM to add the future-conditions 1-percent-annual-chance (100-year) floodplain when requested to do so by the community. FEMA is showing this information on the FIRM for informational purposes only. FEMA will require written assurance from the Chief Executive Officer or other community official that the community has or will proceed with adoption of the future-conditions information. Such assurance is generally in the form of an adopted local ordinance or resolution. The community will have the authority to decide when to implement changes to local floodplain management regulations, which is true with any change that will result in making the local regulations more stringent than the minimum required under the NFIP.

National Environmental Policy Act

This Final Rule is categorically excluded from the requirements of 44 CFR Part 10.8 (d)(2)(ii), Environmental Consideration. No environmental impact assessment has been prepared.

Regulatory Flexibility Act

The Acting Administrator of the Federal Insurance and Mitigation Administration certifies that this Final Rule does not have a significant economic impact on a substantial number of small entities in accordance with the Regulatory Flexibility Act, 5 U.S.C. et seq., because it is not expected (1) to have significant secondary or incidental effects on a substantial number of small entities, nor (2) to create any additional burden on small entities. A regulatory flexibility analysis has not been prepared.

Executive Order 12612, Federalism

This Final Rule involves no policies that have federalism implications under Executive Order 12612, Federalism, dated October 26, 1987.

Executive Order 12778, Civil Justice Reform

This Final Rule meets the applicable standards of Section 2(b)(2) of Executive Order 12778, Civil Justice Reform.

Executive Order 12866, Regulatory Planning and Review

Promulgation of this Final Rule is required by statute, 42 U.S.C. 4014(f), which also specifies the regulatory approach taken in this Final Rule. To the extent possible under the statutory requirements of 42 U.S.C. 4014(f), this Final Rule adheres to the principles of regulation as set forth in Executive Order 12866, Regulatory Planning and Review.

List of Subjects in 44 CFR Parts 59 and 64

Administrative practice and procedure, Flood insurance, Floodplains, and Reporting and record-keeping requirements.

Accordingly, amend 44 CFR Parts 59 and 64 as follows:

PART 59—GENERAL PROVISIONS

1. The authority citation for Part 59 continues to read as follow:

Authority: 42 U.S.C. 4001 et seq.; Reorganization Plan No. 3 of 1978, 43 FR 41943, 3 CFR 1978 Comp., p. 329; E.O. 12127 of Mar. 31, 1979, 44 FR 19367; 3 CFR 1979 Comp., p. 376.

2. Section 59.1 is amended by adding three definitions to read as follows:

§ 59.1 Definitions.

* * * * *

Area of future-conditions flood hazard means the land area that would be inundated by the 1-percent-annual-chance (100-year) flood based on future-conditions hydrology.

* * * * *

Future-conditions flood hazard area, or future-conditions floodplain—see Area of future-conditions flood hazard.

Future-conditions hydrology means the flood discharges associated with projected land-use conditions based on a community's zoning maps and/or comprehensive land-use plans and without consideration of projected future construction of flood detention structures or projected future hydraulic modifications within a stream or other waterway, such as bridge and culvert construction, fill, and excavation.

* * * * *

PART 64—COMMUNITIES ELIGIBLE FOR THE SALE OF INSURANCE

3. The authority citation for Part 64 continues to read as follow:

Authority: 42 U.S.C. 4001 et seq.; Reorganization Plan No. 3 of 1978, 43 FR 41943, 3 CFR 1978 Comp., p. 329; E.O. 12127 of Mar. 31, 1979, 44 FR 19367; 3 CFR 1979 Comp., p. 376.

4. Amend § 64.3 as follows:

a. Revise the introductory text of paragraph (a)(1).

b. In the table in paragraph (a)(1), revise the entry for the zone symbol for Zones B,X.

c. Revise the closing text to paragraph (a)(1).

The revisions read as follows:

§ 64.3 Flood Insurance Maps.

(a) * * *

(1) Flood Insurance Rate Map: This map is prepared after the flood hazard study for the community has been completed and the risk premium rates have been established. The FIRM indicates the risk premium rate zones applicable in the community and when those rates are effective. The FIRM also may indicate, at the request of the community, zones to identify areas of future-conditions flood hazards. The symbols used to designate the risk premium rate zones and future-conditions zones are as follows:

Zone symbol
* * * * * * *
B, X | Areas of moderate flood hazards or areas of future-conditions flood hazard.
* * * * * * *

Areas identified as subject to more than one hazard (flood, mudslide (i.e., mudflow), flood-related erosion) or potential hazard (i.e., future-conditions flooding) will be designated on the FIRM by use of the proper zone symbols in combination.

* * * * *

Dated: November 20, 2001.
Robert F. Shea,
Acting Administrator, Federal Insurance and Mitigation Administration.

[FR Doc. 01-29474 Filed 11-26-01; 8:45 am]

BILLING CODE 6718-04-P